DEPARTMENT OF VETERANS AFFAIRS

Privacy Act of 1974

AGENCY: Department of Veteran Affairs.

ACTION: Notice of amendment to an existing system of records

SUMMARY: The Privacy Act of 1974 (5 U.S.C. 552(e)(4)) requires that all agencies publish in the Federal Register a notice of the existence and character of their systems of records. Notice is hereby given that the Department of Veterans Affairs (VA) is amending the system of records entitled “Individual Correspondence Records—VA” (05VA026) as set forth in the Federal Register on January 13, 1982 [47 FR 1462]. VA is amending the system by revising the routine uses of records maintained in the system, and adding seven new routine uses. VA is also making minor editorial changes to reflect the transition of Office of General Counsel from District Offices to Regional Offices, and to revise the list of those covered by the system of records to reflect current OGC correspondence. VA is republishing the system notice in its entirety.

DATES: Interested persons are invited to submit comments, suggestions, or objections regarding these changes. To assure consideration, written comments on this revised system of records must be postmarked no later than December 26, 2008, and written comments hand delivered to the Department and comments submitted electronically must be received as provided below, no later than 5 p.m. Eastern Time on December 26, 2008. If no public comment is received, the system will become effective December 26, 2008.

ADDRESSES: Written comments may be submitted through http://www.Regulations.gov; by mail or hand-delivery to the Director, Regulations Management (02REG), Department of Veterans Affairs, 810 Vermont Ave., NW., Room 1068, Washington, DC 20420; or by fax to (202) 273-9026. Copies of comments received will be available for public inspection in the Office of Regulation Policy and Management, Room 1063B, between the hours of 8 a.m. and 4:30 p.m. Monday through Friday (except holidays). Please call (202) 461-4902 for an appointment. In addition, during the comment period, comments may be viewed online through the Federal Docket Management System (FDMS).

FOR FURTHER INFORMATION CONTACT: Susan Sokoll, Privacy Officer, (202) 461-7623, Office of the General Counsel (026C), Department of Veterans Affairs, 810 Vermont Avenue, NW., Washington, DC 20420.

SUPPLEMENTARY INFORMATION: The system of records, “Individual Correspondence Records—VA” (05VA026), was amended January 13, 1982, at 47 FR 1462.

I. Description of the System of Records

“Individual Correspondence Records—VA” contains letters written by veterans, beneficiaries of veterans, dependents of veterans, non-profit organizations, businesses, attorneys, and other individuals, to Office of General Counsel (OGC). These files contain the initial inquiry, subsequent information, all supporting documents from whatever source, and the response or opinion of the OGC attorney answering the inquiry.

II. Proposed Amendments to Routine Use Disclosures of Data in the System

VA is amending, deleting, rewriting and reorganizing the order of the routine uses in this system of records. Accordingly, the following changes are made to the current routine uses and are incorporated into the amended system of records notice.

The wording for current routine use 1 was revised.

Current routine uses 2 through 4 are being combined and revised into new routine use 4. This routine use is amended to more accurately reflect the conditions under which VA, on its own initiative, may disclose information from this system of records for law enforcement purposes.

New routine use number 2 is being added to authorize disclosure to the National Archives and Records Administration and General Services Administration for records management inspections conducted under authority of Title 44, Chapter 29, of the United States Code.

New routine use 3 is added to reflect VA's authorization to disclose individually-identifiable information to contractors or other entities that will provide services to VA for which the recipient needs that information in order to perform the services.

Current routine use number 5 is being renumbered as routine use number 10. New routine use 5 is added to state when VA may disclose information in legal proceedings, and when VA may disclose information to the Department of Justice. In determining whether to disclose records under this routine use, VA will comply with the guidance promulgated by the Office of Management and Budget (OMB) in a May 24, 1985, memorandum entitled “Privacy Act Guidance—Update” currently posted at http://www.whitehouse.gov/omb/inforeg/guidance1985.pdf.

VA is adding a new routine use 6 that authorizes the circumstances, and to whom, VA may disclose records in order to respond to, and minimize possible harm to, individuals as a result of a data breach. This routine use is promulgated in order to meet VA's statutory duties under 38 U.S.C. 5724 and the Privacy Act, 5 U.S.C. 552a, as amended.

VA is adding new routine use 7 to disclose information to the Merit Systems Protection Board or the Office of Special Counsel, where officials of those agencies determine, or VA determines the disclosure is necessary to perform duties imposed by 5 U.S.C. sections 1205 and 1206, or as may be authorized by law.

VA is adding new routine use 8 to disclose information to the Equal Employment Opportunity Commission when requested in connection with investigations of alleged or possible discriminatory practices, examination of Federal affirmative employment programs, or for other functions of the Commission as authorized by law or regulation.

VA is adding new routine use 9 to disclose information to the Federal Labor Relations Authority, where officials of those agencies determine, or VA determines the disclosure is necessary to perform duties imposed by the enabling statutes and legislation of that agency.

III. Compatibility of the Proposed Routine Uses

Release of information from these records, pursuant to routine uses, will be made only in accordance with the provisions of the Privacy Act of 1974. The Privacy Act of 1974 permits agencies to disclose information about individuals, without their consent, for a routine use when the information will be used for a purpose for which the information was collected. VA has determined that the disclosure of information for the above purposes in the proposed amendment to routine uses is a proper and necessary use of the information collected by the Claimant Private Relief Legislative Files.

The report of intent to publish and an advance copy of the system notice have been sent to the appropriate Congressional committees and to the Director of the Office of Management and Budget (OMB) as required by 5 U.S.C. 552a(r) (Privacy Act) and guidelines issued by OMB (65 FR 77677), December 12, 2000.

Approved: November 7, 2008.
Gordon H. Mansfield,
Deputy Secretary of Veterans Affairs.

SYSTEM NAME:

Individual Correspondence Records—VA (05VA026)

SYSTEM LOCATION:

This system of records is located in the Office of the General Counsel (OGC), Professional Staff Group VI (026), U.S. Department of Veterans Affairs (VA), 810 Vermont Avenue, NW., Washington, DC 20420, and at the Regional Counsel Offices. Addresses for Regional Counsel Offices may be obtained from the above-mentioned General Counsel Office address.

CATEGORIES OF INDIVIDUALS COVERED BY THE SYSTEM:

The following categories of individuals and business entities are covered by this system: (1) Veterans; (2) Beneficiaries of Veterans; (3) Dependents of Veterans; (4) Non-Veterans; (5) Employees; (6) Attorneys; (7) Businesses; and (8) Non-Profit Organizations. These persons and groups are those who write to Office of General Counsel with questions or requesting information.

CATEGORIES OF RECORDS IN THE SYSTEM:

Records in this system contain the original incoming letter, any attachments to the letter provided by the requestor, research and background material compiled by the OGC or Regional Counsel attorney as backup for the response to the inquiry, and the actual response or opinion. The incoming letter will contain the name and address of the requestor, and may contain medical information, Social Security Number, VA Claim Number, financial information, or copies of personal papers.

AUTHORITY FOR MAINTENANCE OF THE SYSTEM:

Title 38, United States Code, Section 311.

PURPOSE(S):

This system documents the response of Office of General Counsel and the Regional Counsel Offices to respond to inquiries from outside the government.

ROUTINE USES OF RECORDS MAINTAINED IN THE SYSTEMS, INCLUDING CATEGORIES OF USERS AND THE PURPOSES OF SUCH USES:

1. VA may disclose information to a congressional office in response to an inquiry from the congressional office on behalf of and at the request of that individual.

2. VA may disclose information to the National Archives and Records Administration (NARA) and the General Services Administration (GSA) as required to comply with statutory requirements to disclose information to NARA and GSA for them to perform their statutory records management activities and inspections under authority of title 44, Chapter 29, of the United States Code.

3. VA may disclose information to individuals, organizations, private or public agencies, other entities with whom VA has a contract or agreement to perform such services as VA may deem practicable for the purposes of laws administered by VA, in order for the contractor, subcontractor, public or private agency, or other entity or individuals with whom VA has contract or agreement. This routine use includes disclosures by the individual or entity performing the service for VA to any secondary entity or individual to perform an activity that is necessary for individuals, organizations, private or public agencies, or other entities or individuals with whom VA has a contract or agreement to provide the service to VA.

4. VA may disclose on its own initiative any information in this system, except the names, home addresses or other personally identifiable information of veterans and their dependents, which is relevant to a suspected or reasonably imminent violation of law, whether civil, criminal or regulatory in nature and whether arising by general or program statute or by regulation, rule or order issued pursuant thereto, to a Federal State, local, tribal, or foreign agency charged with the responsibility of investigating or prosecuting such violation, or charged with enforcing or implementing the statute, regulation, rule, or order. On its own initiative, VA may also disclose the names and addresses of veterans and their dependents to a Federal agency charged with the responsibility of investigating or prosecuting civil, criminal or regulatory violations of law, or charged with enforcing or implementing the statute, regulation, rule or order issued pursuant thereto.

5. VA may provide Department of Justice (DoJ) with information needed to represent the United States in litigation. VA may also disclose the information for this purpose in proceedings in which DoJ is not representing the Agency.

6. VA may, on its own initiative, disclose any information or records to appropriate agencies, entities, or persons when (1) VA suspects or has confirmed that the integrity or confidentiality of information in the system of records has been compromised; (2) the Department has determined that as a result of the suspected or confirmed compromise there is a risk of embarrassment or harm to the reputation of the record subjects, harm to economic or property interests, identity theft or fraud, or harm to the security, confidentiality, or integrity of this system or other systems of programs (whether maintained by the Department or another agency or entity) that rely upon potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the provision of credit protection services or any risk analysis services when necessary to respond to, and if necessary, mitigate damages that might arise from a data breach involving data covered by this system of records.

7. VA may disclose information to officials of the Merit Systems Protection Board or the Office of Special Counsel when requested in connection with appeals, special studies of the civil service and other merit systems, review of rules and regulations, investigation of alleged or possible prohibited personnel practices, and such other functions promulgated in 5 U.S.C. sections 1205 and 1206, or as may be authorized by law.

8. VA may disclose information to the Equal Employment Opportunity Commission when requested in connection with investigations of alleged or possible discriminatory practices, examination of Federal affirmative employment programs, or for other functions of the Commission as authorized by law or regulation.

9. VA may disclose to the Federal Labor Relations Authority (including its General Counsel) information related to the establishment of jurisdiction, the investigation and resolution of allegations of unfair labor practices, or information in connection with the resolution of exceptions to arbitration awards when a question of material fact is raised; to disclose information in matters properly before the Federal Services Impasses Panel, and to investigate representation petitions and conduct or supervise representation elections.

10. Any information in this system from correspondence or inquiries sent to the VA may be disclosed to State or Federal agencies at the request of the correspondent or inquirer in order for those agencies to help the correspondent with his or her problem. The information disclosed may include the name and address of the correspondent or inquirer and details concerning the nature of the problem specified in the correspondence.

POLICIES AND PRACTICES FOR STORING, RETRIEVING, ACCESSING, RETAINING, AND DISPOSING OF RECORDS IN THE SYSTEM:

Storage:

Records are maintained in individual file folders on shelves in the OGC law library or in the Regional Counsel Office.

Retrievability:

Records filed by the last name of the individual(s) or organization(s) covered by the system of records.

Safeguards:

Records are maintained in a manned room during working hours. During nonworking hours, the file area is locked, and the building is protected by uniformed guards. Access to the records is only authorized to VA personnel on a “need to know” basis.

Retention and Disposal:

OGC correspondence records prior to 1975 relating to a veteran which result in a legal opinion have been placed on microfiche. The paper records are currently stored in the Washington National Records Center, and the microfiche is stored in the OGC Law Library. Records are maintained in the Office of General Counsel and the Regional Counsel Offices for a period of three years. After three years, general correspondence records are destroyed [Records Control Schedule N-15-06-2, Item 1].

System Manager(s) and Address(es):

Assistant General Counsel, Professional Staff Group VI (026), Office of General Counsel, United States Department of Veterans Affairs, 810 Vermont Avenue, NW., Washington, DC 20420.

Notification Procedure:

An individual who wishes to determine whether a record is being maintained in this system under his or her name or other personal identifier, or wants to determine the contents of such record, should submit a written request to the Assistant General Counsel, Professional Staff Group VI (026), Office of General Counsel, U.S. Department of Veterans Affairs, 810 Vermont Avenue, NW., Washington, DC 20420. Such requests must contain a reasonable description of the records requested. All inquiries must reasonably identify the information involved and should include the individual's full name, return address, and telephone number.

Record Access Procedures:

Individuals seeking information regarding access to VA information maintained by the Office of General Counsel may send a request by mail to the Assistant General Counsel, Professional Staff Group VI (026), Office of the General Counsel, Department of Veterans Affairs, 810 Vermont Avenue, NW., Washington, DC 20420, or may send a fax to the Assistant General Counsel, Professional Staff Group VI, 1-202-273-6645.

Contesting Record Procedures:

Individuals seeking information regarding contesting or amending VA information maintained by the Office of General Counsel may send a request by mail to the Assistant General Counsel, Professional Staff Group VI (026), Office of the General Counsel, Department of Veterans Affairs, 810 Vermont Avenue, NW., Washington, DC 20420, or may send a fax to the Assistant General Counsel, Professional Staff Group VI, 1-202-273-6645.

Records Source Categories:

Veterans, beneficiaries and dependents of veterans, employees, business, and non-profit organizations.

Exemptions Claimed for the System:

None.

[FR Doc. E8-28197 Filed 11-25-08; 8:45 am]

BILLING CODE 8320-01-P